DEPARTMENT OF TRANSPORTATION

Federal Aviation Administration

14 CFR Part 39

[Docket No. FAA-2004-19566; Directorate Identifier 2004-NM-72-AD; Amendment 39-14657; AD 2006-13-04]

RIN 2120-AA64

Airworthiness Directives; Airbus Model A300 B2 and A300 B4 Series Airplanes; and Model A300 B4-600, B4-600R, and F4-600R Series Airplanes, and Model C4-605R Variant F Airplanes (Collectively Called A300-600 Series Airplanes)

AGENCY: Federal Aviation Administration (FAA), Department of Transportation (DOT).

ACTION: Final rule.

SUMMARY: The FAA is adopting a new airworthiness directive (AD) for certain Airbus airplanes as listed above. This AD requires repetitively inspecting for cracking in the web of nose rib 7 of the inner flap on the wings, and performing related investigative/corrective actions if necessary. This AD also requires eventual replacement of nose rib 7 with a new, improved rib, which would terminate the inspections. This AD results from reports of cracking in the web of nose rib 7 of the inner flap. We are issuing this AD to prevent cracking in the web of nose rib 7, which could result in rupture of the attachment fitting between the inner flap and flap track 2, and consequent reduced structural integrity of the flap.

DATES: This AD becomes effective July 26, 2006.

The Director of the Federal Register approved the incorporation by reference of certain publications listed in the AD as of July 26, 2006.

ADDRESSES: You may examine the AD docket on the Internet at http://dms.dot.gov or in person at the Docket Management Facility, U.S. Department of Transportation, 400 Seventh Street, SW., Nassif Building, Room PL-401, Washington, DC.

Contact Airbus, 1 Rond Point Maurice Bellonte, 31707 Blagnac Cedex, France, for service information identified in this AD.

FOR FURTHER INFORMATION CONTACT: Thomas Stafford, Aerospace Engineer, International Branch, ANM-116, Transport Airplane Directorate, FAA, 1601 Lind Avenue, SW., Renton, Washington 98055-4056; telephone (425) 227-1622; fax (425) 227-1149.

SUPPLEMENTARY INFORMATION:

Examining the Docket

You may examine the AD docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a second supplemental notice of proposed rulemaking (NPRM) to amend 14 CFR part 39 to include an AD that would apply to certain Airbus Model A300 B2 and A300 B4 series airplanes; and Model A300 B4-600, B4-600R, and F4-600R series airplanes, and Model C4-605R Variant F airplanes (collectively called A300-600 series airplanes). That second supplemental NPRM was published in the Federal Register on March 27, 2006 (71 FR 15084). The second supplemental NPRM proposed to require repetitively inspecting for cracking in the web of nose rib 7 of the inner flap on the wings, performing related investigative/corrective actions if necessary, and eventually replacing nose rib 7 with a new, improved rib to terminate the inspections.

Comments

We provided the public the opportunity to participate in the development of this AD. No comments have been received on the second supplemental NPRM or on the determination of the cost to the public.

Conclusion

We have carefully reviewed the available data and determined that air safety and the public interest require adopting the AD as proposed in the second supplemental NPRM.

Costs of Compliance

The following table provides the estimated costs for U.S. operators to comply with this AD, at an average labor rate of $65 per hour.

Estimated Costs
Action | Work hours | Parts | Cost per airplane | Number of U.S.-registered airplanes | Fleet cost
Inspection, per inspection cycle | 3 | None | $195 | 143 | $27,885, per inspection cycle.
Rib replacement | 10 | $10,980 | 11,630 | 143 | $1,663,090.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-13-04 Airbus: Amendment 39-14657. Docket No. FAA-2004-19566; Directorate Identifier 2004-NM-72-AD.

Effective Date

(a) This AD becomes effective July 26, 2006.

Affected ADs

(b) None.

Applicability

(c) This AD applies to Airbus Model A300 B2-1A, B2-1C, B2K-3C, B2-203, B4-2C, B4-103, B4-203, B4-601, B4-603, B4-605R, B4-620, B4-622, B4-622R, F4-605R, F4-622R, and C4-605R Variant F airplanes; certificated in any category; except those on which Airbus Modification 13031 or 19575 was accomplished in production.

Unsafe Condition

(d) This AD was prompted by reports of cracking in the web of nose rib 7 of the inner flap. We are issuing this AD to prevent cracking in the web of nose rib 7, which could result in rupture of the attachment fitting between the inner flap and flap track 2, and consequent reduced structural integrity of the flap.

Compliance

(e) You are responsible for having the actions required by this AD performed within the compliance times specified, unless the actions have already been done.

Inspections

(f) Do a detailed inspection, using a borescope or endoscope, for cracking of the vertical stiffeners, and of the horizontal flanges between the stiffeners, of nose rib 7 of the inner flap of the left- and right-hand wings; and do an eddy current inspection to detect cracking in the horizontal flanges of the attachment lug root of nose rib 7 of the inner flap of the left- and right-hand wings; in accordance with the Accomplishment Instructions of Airbus Service Bulletin A300-57-0240 or A300-57-6095, both Revision 01, both dated December 2, 2004, as applicable. Do the initial inspections at the applicable compliance time specified in paragraph (f)(1) or (f)(2) of this AD.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

(1) For airplanes on which nose rib 7 has not been replaced in accordance with Airbus Service Bulletin A300-57-0242 or A300-57-6097, both dated December 18, 2003: Do the initial inspections at the applicable time specified in paragraph (f)(1)(i) or (f)(1)(ii) of this AD.

(i) For airplanes with 18,599 or fewer total flight cycles as of the effective date of this AD: Prior to the accumulation of 5,000 total flight cycles, or within 1,000 flight cycles after the effective date of this AD, whichever is later.

(ii) For airplanes with 18,600 or more total flight cycles as of the effective date of this AD: Within 500 flight cycles after the effective date of this AD.

(2) For airplanes on which nose rib 7 has been replaced in accordance with Airbus Service Bulletin A300-57-0242 or A300-57-6097, both dated December 18, 2003: Do the initial inspection within 5,000 flight cycles after accomplishing the replacement, or within 1,000 flight cycles after the effective date of this AD, whichever is later.

No Crack Found: Repetitive Inspections

(g) If no crack is found during the inspection required by paragraph (f) of this AD: Repeat the inspection at intervals not to exceed 1,000 flight cycles, until the terminating action in paragraph (i) of this AD is completed.

Crack Found: Related Investigative/Corrective Actions

(h) If any crack is found during any inspection required by paragraph (f) or (g) of this AD: Before further flight, replace nose rib 7 with a new, improved rib and do all related investigative actions and applicable corrective actions in accordance with the Accomplishment Instructions of Airbus Service Bulletin A300-57-0245, Revision 01; or A300-57-6100, Revision 01; both dated March 9, 2006; as applicable; except as provided by paragraph (j) of this AD. This terminates the repetitive inspections required by paragraph (g) of this AD for the modified flaps only.

Terminating Action

(i) Within 5,000 flight cycles or 36 months after the effective date of this AD, whichever is first: Replace nose rib 7 with a new, improved rib and do all related investigative actions and applicable corrective actions in accordance with the Accomplishment Instructions of Airbus Service Bulletin A300-57-0245, Revision 01; or A300-57-6100, Revision 01; both dated March 9, 2006; as applicable; except as provided by paragraph (j) of this AD. This terminates the repetitive inspections required by paragraph (g) of this AD.

Repairing Per the FAA or Direction Générale de l'Aviation Civile (DGAC)

(j) If any crack or damage is found for which the applicable service bulletin specifies to contact Airbus: Before further flight, repair per a method approved by either the Manager, International Branch, ANM-116, Transport Airplane Directorate, FAA; or the DGAC (or its delegated agent).

No Reporting Required

(k) Airbus Service Bulletins A300-57-0240 and A300-57-6095, both Revision 01, both dated December 2, 2004, specify to submit certain information to the manufacturer, but this AD does not include that requirement.

Actions Accomplished in Accordance With Initial Issue of Service Bulletins

(l) Actions done before the effective date of this AD in accordance with Airbus Service Bulletin A300-57-0245 or A300-57-6100, both dated August 31, 2005, are acceptable for compliance with the requirements of paragraphs (h) and (i) of this AD.

Alternative Methods of Compliance (AMOCs)

(m)(1) The Manager, International Branch, ANM-116, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Related Information

(n) French airworthiness directive F-2005-198, dated December 7, 2005, also addresses the subject of this AD.

Material Incorporated by Reference

(o) You must use the applicable service information identified in Table 1 of this AD to perform the actions that are required by this AD, unless the AD specifies otherwise. The Director of the Federal Register approved the incorporation by reference of these documents in accordance with 5 U.S.C. 552(a) and 1 CFR part 51. Contact Airbus, 1 Rond Point Maurice Bellonte, 31707 Blagnac Cedex, France, for a copy of this service information. You may review copies at the Docket Management Facility, U.S. Department of Transportation, 400 Seventh Street SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Table 1.—Material Incorporated by Reference
Airbus Service Bulletin | Revision level | Date
A300-57-0240 | 01 | December 2, 2004.
A300-57-0245 | 01 | March 9, 2006.
A300-57-6095 | 01 | December 2, 2004.
A300-57-6100 | 01 | March 9, 2006.

Issued in Renton, Washington, on June 14, 2006.
Kalene C. Yanamura,
Acting Manager, Transport Airplane Directorate, Aircraft Certification Service.

[FR Doc. 06-5530 Filed 6-20-06; 8:45 am]

BILLING CODE 4910-13-P